DEPARTMENT OF COMMERCE

International Trade Administration

[A-549-502]

Circular Welded Carbon Steel Pipes and Tubes From Thailand: Final Results of Antidumping Duty Administrative Review; 2012-2013

AGENCY: Enforcement and Compliance, International Trade Administration, Department of Commerce.

SUMMARY: On April 24, 2014, the Department of Commerce (the Department) published the preliminary results of the administrative review of the antidumping duty order on circular welded carbon steel pipes and tubes from Thailand.¹ This review covers two producers and/or exporters of the subject merchandise, Saha Thai Steel Pipe (Public) Company, Ltd. (Saha Thai), and Pacific Pipe Company Limited (Pacific Pipe). The period of review (POR) is March 1, 2012, through February 28, 2013. The Department received comments from interested parties. For the final results, we find that Saha Thai has not sold subject merchandise at less than normal value (NV), and we continue to find that Pacific Pipe had no shipments of subject merchandise during the POR.

¹ See Circular Welded Carbon Steel Pipes and Tubes From Thailand: Preliminary Results of Antidumping Duty Administrative Review; 2012-2013, 79 FR 22794 (April 24, 2014) (Preliminary Results).

DATES: Effective Date: October 28, 2014.

FOR FURTHER INFORMATION CONTACT: Jason Rhoads, AD/CVD Operations, Office VII, Enforcement and Compliance, International Trade Administration, U.S. Department of Commerce, 14th Street and Constitution Avenue NW., Washington, DC 20230; telephone: (202) 482-0123.

SUPPLEMENTARY INFORMATION:

Background

On April 24, 2014, the Department published, and invited interested parties to comment on, the Preliminary Results. Saha Thai and Wheatland Tube Company submitted case briefs on June 16, 2014, and submitted rebuttal briefs on June 23, 2014.

The Department conducted this administrative review in accordance with section 751(a) of the Tariff Act of 1930, as amended (the Act).

Scope of the Order

The products covered by the antidumping order are certain circular welded carbon steel pipes and tubes from Thailand.² The subject merchandise has an outside diameter of 0.375 inches or more, but not exceeding 16 inches. The merchandise is classifiable under the Harmonized Tariff Schedule of the United States (HTSUS) item numbers 7306.30.1000, 7306.30.5025, 7306.30.5032, 7306.30.5040, 7306.30.5055, 7306.30.5085 and 7306.30.5090. Although the HTSUS subheadings are provided for convenience and purposes of U.S. Customs and Border Protection (CBP), the written description of the merchandise subject to the order is dispositive. A full description of the scope of the order is contained in the Issues and Decision Memorandum, which is hereby adopted by this notice.

² See Memorandum to Paul Piquado, Assistant Secretary for Enforcement and Compliance, from Christian Marsh, Deputy Assistant Secretary for Antidumping and Countervailing Duty Operations, entitled “Issues and Decision Memorandum for the Final Results of Antidumping Duty Administrative Review of Circular Welded Carbon Steel Pipes and Tubes from Thailand: 2012-2013 Administrative Review,” dated concurrently with this notice (Issues and Decision Memorandum), for a complete description of the scope of the order.

Final Determination of No Shipments

For the final results of this review, we continue to find that Pacific Pipe had no shipments during the POR.³

³ See Preliminary Results.

Analysis of Comments Received

All issues raised in the case and rebuttal briefs by parties to this review are addressed in the Issues and Decision Memorandum. A list of issues that parties raised and to which we respond in the Issues and Decision Memorandum is attached to this notice as an Appendix. The Issues and Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Issues and Decision Memorandum can be accessed directly on the Internet at http://enforcement.trade.gov/frn/index.html. The signed Issues and Decision Memorandum and the electronic versions of the Issues and Decision Memorandum are identical in content.

Changes Since the Preliminary Results

Based on a review of the record as well as comments received from parties regarding the Preliminary Results, we made two revisions to Saha Thai's margin calculation for the final results. We (1) used Saha Thai's most up-to-date cost of production file, and (2) adjusted Saha Thai's duty drawback amount so that the amount added to export price is consistent with the amount added to Saha Thai's calculated cost of production.⁴

⁴ See Saha Thai's Final Analysis Memorandum and Memorandum to the File, entitled “Final Results of the Administrative Review of Circular Welded Carbon Steel Pipes and Tubes from Thailand: Analysis Memorandum for Saha Thai Steel Pipe (Public) Company, Ltd.,” dated concurrently with this notice.

Final Results of Review

As a result of our review, we determine the following weighted-average dumping margins exist for the period March 1, 2011, through February 29, 2012.

Producer/exporter | Weighted-average dumping margin (percent)
Saha Thai Steel Pipe (Public) Company, Ltd | 0.00
Pacific Pipe Company Limited | (*)
* No shipments or sales subject to this review. The firm has an individual rate from the last segment of the proceeding in which the firm had shipments or sales.

Assessment Rates

In accordance with 19 CFR 351.106(c)(2) and the Final Modification for Reviews,⁵ the Department will instruct CBP to liquidate appropriate entries for Saha Thai without regard to antidumping duties.

⁵ See Antidumping Proceedings: Calculation of the Weighted-Average Dumping Margin and Assessment Rate in Certain Antidumping Proceedings: Final Modification, 77 FR 8101, 8102 (February 14, 2012) (Final Modification for Reviews).

The Department clarified its “automatic assessment” regulation on May 6, 2003.⁶ This clarification applies to entries of subject merchandise during the POR produced by Saha Thai for which it did not know its merchandise was destined for the United States. In such instances, we will instruct CBP to liquidate unreviewed entries at the all-others rate if there is no rate for the intermediate company(ies) involved in the transaction.

⁶ For a full discussion of this clarification, see Antidumping and Countervailing Duty Proceedings: Assessment of Antidumping Duties, 68 FR 23954 (May 6, 2003) (Assessment Policy Notice).

Consistent with the Assessment Policy Notice, because we continue to find that Pacific Pipe had no shipments of subject merchandise to the United States, we will instruct CBP to liquidate all applicable entries of merchandise produced by Pacific Pipe and exported by other parties at the rate for the intermediate reseller, if available, or at the all-others rate.

We intend to issue instructions to CBP 15 days after publication of the final results of this review.

Cash Deposit Requirements

The following cash deposit requirements will be effective upon publication of the notice of final results of administrative review for all shipments of circular welded carbon steel pipes and tubes from Thailand entered, or withdrawn from warehouse, for consumption on or after the date of publication as provided by section 751(a)(2) of the Act: (1) The cash deposit rate for Saha Thai will be 0.00 percent, the weighted-average dumping margin established in the final results of this administrative review; (2) for Pacific Pipe and previously reviewed or investigated companies not listed above, the cash deposit rate will continue to be the company-specific rate published for the most recently completed segment of this proceeding; (3) if the exporter is not a firm covered in this review, a prior review, or the less than fair value (LTFV) investigation, but the manufacturer is, then the cash deposit rate will be the rate established for the most recently completed segment of this proceeding for the manufacturer of the merchandise; and (4) if neither the exporter nor the manufacturer is a firm covered in this or any previous review or the LTFV investigation, then the cash deposit rate will be the “all-others” rate of 15.67 percent established in the LTFV investigation.⁷ These deposit rates, when imposed, shall remain in effect until further notice.

⁷ See Antidumping Duty Order: Circular Welded Carbon Steel Pipes and Tubes From Thailand, 51 FR 8341 (March 11, 1986).

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act.

Dated: October 21, 2014.
Paul Piquado,
Assistant Secretary for Enforcement and Compliance.

Appendix

List of Topics Discussed in the Issues and Decision Memorandum

Comment 1: The Department Inadvertently Used the Incorrect Section D Cost File in the Preliminary Results Calculations

Comment 2: For Transactions with Sale Dates Prior to the POR, the Department Should Use the Corresponding Costs from the Prior POR

Comment 3: The Department Should Revise Saha Thai's Reported Costs To Exclude the Grade B Adjustments

Comment 4: Calculation of Saha Thai's Freight Revenue Cap

Comment 5: Withdrawal of the Regulatory Provisions Governing Targeted Dumping in Less-Than-Fair-Value Investigations

Comment 6: Consideration of an Alternative Comparison Methodology in Administrative Reviews

Comment 7: Differential Pricing

Comment 8: Calculation of Saha Thai's Duty Drawback Adjustment

Comment 9: Application of Adverse Facts Available to Affiliated Party Transactions Discovered at Verification

[FR Doc. 2014-25611 Filed 10-27-14; 8:45 am]

BILLING CODE 3510-DS-P